SECURITIES AND EXCHANGE COMMISSION

[Form 2-E, Rule 609; SEC File No. 270-222; OMB Control No. 3235-0233]

Proposed Collection; Comment Request: Upon Written Request, Copies Available Form: Securities and Exchange Commission, Office of Filings and information Services; Washington, DC 20549

Notice is hereby given that, pursuant to the Paperwork Reduction Act of 1995 (44 U.S.C. 3501 et seq.), the Securities and Exchange Commission (“Commission”) is soliciting comments on the collection of information summarized below. The Commission plans to submit this existing collection of information to the Office of Management and Budget for extension and approval.

Form 2-E Under the Securities Act of 1933, Report of Sales Pursuant to Rule 609 of Regulation E; and Rule 609 Under the Securities Act of 1933, Report of Sales

Form 2-E [17 CFR 239.201] is used by small business investment companies or business development companies engaged in limited offerings of securities to report semi-annually the progress of an offering, including the number of shares sold. The form solicits information such as the dates an offering has commenced and has been completed, the number of shares sold and still being offered, amounts received in the offering, and expenses and underwriting discounts incurred in the offering. This information assists the staff in determining whether the issuer has stayed within the limits of an offering exemption.

Form 2-E must be filed semi-annually during an offering and as final report at the completion of the offering. Less frequent filing would not allow the Commission to monitor the progress of the limited offering in order to ensure that the issuer was not attempting to avoid the normal registration provisions of the securities laws.

There has been on average one filing on Form 2-E under Rule 609 of regulation E [17 CFR 230.609] during each of the last three years. On average, approximately one respondent spends four hours collecting information, preparing, and filing a Form 2-E for a total annual burden of four hours.

The estimates of average burden hours are made solely for the purposes of the Paperwork Reduction Act and are not derived from a comprehensive or even representative survey or study of the cost of Commission rules and forms.

Written comments are invited on: (a) Whether the proposed collection of information is necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to Michael E. Bartell, Associate Executive Director, Office of Information Technology, Securities and Exchange Commission, 450 Fifth Street, NW., Washington, DC 20549.

Dated: June 20, 2000.
Margaret H. McFarland,
Deputy Secretary.

[FR Doc. 00-16205 Filed 6-20-00; 8:45 am]

BILLING CODE 8010-01-M